DEPARTMENT OF TRANSPORTATION

Federal Railroad Administration

[Docket No. FRA-2020-0027-N-20]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before November 10, 2020.

ADDRESSES: Submit comments and recommendations for the proposed ICR to Ms. Hodan Wells, Information Collection Clearance Officer at email: hodan.wells@dot.gov or telephone: (202) 493-0440. Please refer to the assigned OMB control number in any correspondence submitted. FRA will summarize comments received in response to this notice in a subsequent notice and include them in its information collection submission to OMB for approval.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summary below describes the ICR that FRA will submit for OMB clearance as the PRA requires:

Title: Railroad Operating Rules.

OMB Control Number: 2130-0035.

Abstract: The collection of information associated with Title 49 Code of Federal Regulations (CFR) parts 217 and 218, Railroad Operating Rules and Practices, require railroads to file with FRA copies of their operating rules, timetables, timetable special instructions, and subsequent amendments. The regulations also require railroads to retain copies of these documents at their systems headquarters and make these documents available to FRA upon request. Additionally, 49 CFR 220.21(b) prescribes the collection of information by requiring railroads to retain one copy of their current operating rules with respect to radio communications and one copy of each subsequent amendment. Through these rules, FRA learns the condition of operating rules and practices of trains and instructions railroads provide their employees on operating practices.

Type of Request: Extension with change (revised estimates) of a currently approved collection.

Affected Public: Businesses.

Form(s): N/A.

Respondent Universe: 765 railroads.

Frequency of Submission: On occasion.

Reporting Burden:

CFR Section ¹ | Respondent universe | Total annual responses | Average time per responses | Total annual burden hours | Total cost equivalent ²
217.7(a)—Operating rules; filing and recordkeeping—Filing of code of operating rules, timetables, and timetable special instructions by Class I, Class II, Amtrak, and commuter railroads with FRA | 2 new railroads | 2 documents | 1 hour | 2 hours | $154
—(b) Amendments to code of operating rules, timetables, and timetable special instructions by Class I, Class II, Amtrak, and commuter railroads with FRA | 53 railroads | 312 revised documents | 20 minutes | 104 hours | 8,008
—(c) Class III and other railroads—Copy of code of operating rules, timetables, and timetable special instructions at system headquarters | 2 new railroads | 2 documents | 1 hour | 2 hours | 154
—(c) Class III and other railroads—Amendments to code of operating rules, timetables, and timetable special instructions at system headquarters | 798 railroads | 1,596 copies | 15 minutes | 399 hours | 30,723
217.9(b)(2)—Program of operational tests and inspections; recordkeeping—Written records documenting qualification of each railroad testing officer | 765 railroads | 4,732 records | 2 minutes | 158 hours | 12,166
—(c) Written program of operational tests and inspections | 2 new railroads | 2 programs | 10 hours | 20 hours | 2,300
—(d)(1) Records of operational tests/inspections | 765 railroads | 9,120,000 test records and updates | 5 minutes | 760,000 hours | 58,520,000
—(d)(2) Railroad copy of current program operational tests/inspections—Amendments | 53 railroads | 159 program revisions | 70 minutes | 186 hours | 14,322
—(e)(1)(i) Written quarterly review of operational tests/inspections by RRs other than passenger RRs | 8 Amtrak + Class I railroads | 32 reviews | 2 hours | 64 hours | 4,928
—(e)(1)(ii) 6-month review of operational tests/inspections/naming of officer | 7 Class I railroads | 14 reviews | 2 hours | 28 hours | 2,156
—(e)(2) 6-month review by passenger railroads designated officers of operational testing and inspection data | 35 Amtrak + passenger railroads | 70 reviews | 2 hours | 140 hours | 10,780
—(e)(3) Records of periodic reviews | 50 railroads | 116 records | 1 minute | 2 hours | 154
—(f)-(g) Annual summary of operational tests and inspections | 50 railroads | 50 summary records | 1 hour | 50 hours | 3,850
—(h)(1)(i) RR amended program of operational tests/inspections | 765 railroads | 6 revised programs | 30 minutes | 3 hours | 231
—(h)(1)(ii) FRA disapproval of RR program of operational tests/inspections and RR written response in support of program | 765 railroads | 6 supporting documents | 1 hour | 6 hours | 462
218.97(c)(1) and (c)(4)—RR employee good faith challenge of RR directive | 10 workers | 10 gd. faith challenges | 15 minutes | 3 hours | 231
—(c)(5) RR resolution of employee good faith challenge | 2 new railroads | 5 responses | 15 minutes | 1 hour | 77
—(d)(1) RR officer immediate review of unresolved good faith challenge | 2 new railroads | 3 reviews | 30 minutes | 2 hours | 154
—(d)(2) RR officer explanation to employee that Federal law may protect against employer retaliation for refusal to carry out work if employee refusal is a lawful, good faith act | 2 new railroads | 3 answers | 15 minutes | 1 hour | 77
—(d)(3) Employee written/electronic protest of employer final decision | 2 new railroads | 3 written protests | 15 minutes | 1 hour | 77
—(d)(3) Employee copy of protest | 2 new railroads | 3 copies | 1 minute | 0.1 hour | 8
—(d)(4) Employer further review of good faith challenge after employee written request | 2 new railroads | 2 further reviews | 15 minutes | 0.5 hours | 39
—(d)(4) RR verification decision to employee in writing | 2 new railroads | 2 decisions | 15 minutes | 0.5 hours | 39
—(e) Recordkeeping and record retention—Employer's copy of written procedures at division headquarters | 2 new railroads | 2 copies | 5 minutes | 0.2 hours | 15
218.99(a)—Shoving or pushing movement—RR operating rule complying with section's requirements | 2 new railroads | 2 rule modifications | 1 hour | 2 hours | 154
218.101(a)-(c)—Leaving equipment in the clear—Operating rule that complies with this section | 2 new railroads | 2 rule modifications | 30 minutes | 1 hour | 77
218.103(a)(1)—Hand-Operated Switches—Operating Rule that Complies with this section | 2 new railroads | 2 rule modifications | 30 minutes | 1 hour | 77
Total | 765 railroads | 9,257,138 responses | N/A | 772,010 hours | 59,445,553
¹ Note: The current inventory estimates a total burden of 4,791,614 hours while the requesting inventory estimates a total burden of 772,010 hours. There is no change in the method of the collection. However, FRA determined some of the estimates were double counted and/or outdated, while other estimates were not PRA requirements, thus leading to the increased figures in the current inventory, which were decreased accordingly in this notice. Also, totals may not add due to rounding.
² The dollar equivalent cost is derived from the Surface Transportation Board's Full Year Wage A&B data series using the appropriate employee group hourly wage rate that includes a 75-percent overhead charge. The hourly wage rate used is $77 per hour ($44.27 * 1.75 = $77).

Total Estimated Annual Responses: 9,257,138.

Total Estimated Annual Burden: 772,010 hours.

Total Estimated Annual Burden Hour Dollar Cost Equivalent: $59,445,553.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Deputy Chief Counsel.

[FR Doc. 2020-20034 Filed 9-10-20; 8:45 am]

BILLING CODE 4910-06-P